FEDERAL COMMUNICATIONS COMMISSION

[CC Docket No. 94-129; DA 05-3131]

Policies and Rules Concerning Unauthorized Changes of Consumers' Long Distance Carriers

AGENCY: Federal Communications Commission.

ACTION: Notice; comments requested.

SUMMARY: In this document, the Consumer & Governmental Affairs Bureau (Bureau) seeks comment on an application for review filed by a group of rural local exchange carriers (Rural LECs) regarding the obligations of local exchange carriers (LECs) when executing preferred interexchange carrier (IXC) changes. The Rural LECs request that the Bureau's initial ruling denying their petition regarding the Commission's carrier change verification rules be reversed and their petition granted.

DATES: Comments are due on or before February 13, 2006, and reply comments are due on or before February 16, 2006.

ADDRESSES: You may submit comments, identified by docket number and/or rulemaking number, by any of the following methods:

• Federal eRulemaking Portal: http://www.regulations.gov. Follow the instructions for submitting comments.

• Federal Communications Commission's Web site: http://www.fcc.gov/cgb/ecfs/. Follow the instructions for submitting comments.

• Mail: Parties who choose to file by paper should also submit their comment on diskette. These diskettes should be submitted, along with three paper copies to Kelli Farmer, Consumer & Governmental Affairs Bureau, Policy Division, 445 12th Street, SW., Room 5-A866, Washington, DC 20554. Such a submission should be on a 3.5 inch diskette formatted in an IBM compatible formatted using Word 97 or compatible software. The diskette should be accompanied by a cover letter and should be submitted in “read only” mode. The diskette should be clearly labeled with the commenter's name, proceeding (including the lead docket number in this case CC Docket No. 94-129), type of pleading (comment or reply comment), date of submission, and the name of the electronic file on the diskette. The label should also include the following phrase: “Disk Copy-Not an Original.” Each diskette should contain only one party's pleadings, preferably in a single electronic file. In addition, commenters must send diskette copies to the Commission's contractor at Portals II, 445 12th Street, SW., Room CY-B402, Washington, DC 20554.

• People with Disabilities: Contact the FCC to request reasonable accommodations (accessible format documents, sign language interpreters, CART, etc.) by e-mail: FCC504@fcc.gov or phone: 202-418-0530 or TTY: 202-418-0432.

For detailed instructions for submitting comments and additional information on the rulemaking process, see the SUPPLEMENTARY INFORMATION section of this document.

FOR FURTHER INFORMATION CONTACT: David Marks, Consumer Policy Division, Consumer & Governmental Affairs Bureau, (202) 418-2512 (voice), David.Marks@fcc.gov.

SUPPLEMENTARY INFORMATION: This is a summary of the Commission's document, DA 05-3131, released December 2, 2005. The full text of document DA 05-3131, the Rural LECs' submission, and copies of any subsequently filed documents in this matter will be available for public inspection and copying during regular business hours at the FCC Reference Information Center, Portals II, 445 12th Street, SW., Room CY-A257, Washington, DC 20554. Document DA 05-3131, the Rural LECs' submission, and copies of subsequently filed documents in this matter may also be purchased from the Commission's contractor at Portals II, 445 12th Street, SW., Room CY-B402, Washington, DC 20554. Customers may contact the Commission's contractor at their Web site http://www.bcpiweb.com or call 1-800-378-3160. A copy of the Rural LECs' submission may also be found by searching ECFS at http://www.fcc.gov/cgb/ecfs (insert CC Docket No. 94-129 into the proceeding block). To request materials in accessible formats for people with disabilities (Braille, large print, electronic files, audio format), send an e-mail to fcc504@fcc.gov or call the Consumer & Governmental Affairs Bureau at 202-418-0530 (voice), 202-418-0432 (TTY). Document DA 05-3131 can also be downloaded in Word or Portable Document Format (PDF) at http://www.fcc.gov/cgb/policy. Pursuant to §§ 1.415 and 1.419 of the Commission's rules, 47 CFR 1.415, 1.419, interested parties may file comments and reply comments on or before the dates indicated on the first page of this document. Comments may be filed using: (1) The Commission's Electronic Comment Filing System (ECFS), (2) the Federal Government's eRulemaking Portal, or (3) by filing paper copies. See Electronic Filing of Documents in Rulemaking Proceedings, 63 FR 24121 (1998).

• Electronic Filers: Comments may be filed electronically using the Internet by accessing the ECFS: http://www.fcc.gov/cgb/ecfs/ or the Federal eRulemaking Portal: http://www.regulations.gov. Filers should follow the instructions provided on the website for submitting comments.

• For ECFS filers, if multiple docket or rulemaking numbers appear in the caption of this proceeding, filers must transmit one electronic copy of the comments for each docket or rulemaking number referenced in the caption. In completing the transmittal screen, filers should include their full name, U.S. Postal Service mailing address, and the applicable docket or rulemaking number. Parties may also submit an electronic comment by Internet e-mail. To get filing instructions, filers should send an e-mail to ecfs@fcc.gov, and include the following words in the body of the message, “get form.” A sample form and directions will be sent in response.

• Paper Filers: Parties who choose to file by paper must file an original and four copies of each filing. If more than one docket or rulemaking number appears in the caption of this proceeding, filers must submit two additional copies for each additional docket or rulemaking number. Filings can be sent by hand or messenger delivery, by commercial overnight courier, or by first-class or overnight U.S. Postal Service mail (although the Commission continues to experience delays in receiving U.S. Postal Service mail). All filings must be addressed to the Commission's Secretary, Office of the Secretary, Federal Communications Commission.

• The Commission's contractor will receive hand-delivered or messenger-delivered paper filings for the Commission's Secretary at 236 Massachusetts Avenue, NE., Suite 110, Washington, DC 20002. The filing hours at this location are 8 a.m. to 7 p.m. All hand deliveries must be held together with rubber bands or fasteners. Any envelopes must be disposed of before entering the building.

• Commercial overnight mail (other than U.S. Postal Service Express Mail and Priority Mail) must be sent to 9300 East Hampton Drive, Capitol Heights, MD 20743.

• U.S. Postal Service first-class, Express, and Priority mail should be addressed to 445 12th Street, SW., Washington DC 20554.

Synopsis

On February 1, 2005, a group of rural local exchange carriers (Rural LECs) filed a Petition for Declaratory Ruling with the Commission regarding the obligations of local exchange carriers when executing preferred interexchange carrier (PIC) changes. See The Rural LECs, Petition for Declaratory Ruling with Respect to Obligations of Local Exchange Carriers to Execute Primary Interexchange Carrier Changes with Incorrect Subscriber Information, filed February 1, 2005 by 3 Rivers Telephone Cooperative, et al. (“Petition”). The Petition requested a Commission declaration that the Commission's rules do not prohibit the practice by rural LECs of rejecting requests from Interexchange Carriers (IXCs) to change a subscriber's preferred interexchange carrier where the name or telephone number on the request does not match that of the subscriber of record or person authorized by the subscriber to make changes to the account. On June 9, 2005, the Consumer & Governmental Affairs Bureau (“Bureau”) issued a Declaratory Ruling (“Ruling”) denying the Petition filed by the Rural LECs regarding the Commission's carrier change verification rules. Declaratory Ruling, CC Docket No. 94-129, DA 05-1618, released June 9, 2005 (“Ruling”), published at 71 FR 2895 (January 18, 2006). On July 8, 2005, the Rural LECs submitted an application for review requesting that the Bureau's Ruling be reversed and their Petition granted. See The Rural LECs, Application for Review, filed July 8, 2005. The Rural LECs argue that the Bureau's Ruling misreads their Petition, the Communications Act, the Commission's rules, and the law of agency. According to the Rural LECs, the Bureau ignored relevant appellate interpretation of the rules at issue and decided a significant question of law and policy not previously resolved by the Commission. Accordingly, the Rural LECs ask that the Bureau's Ruling be vacated and their Petition granted. In this document, the Bureau seeks comment on the issues raised by the Rural LECs.

Federal Communications Commission.
Jay Keithley,
Deputy Bureau Chief, Consumer & Governmental Affairs Bureau.

[FR Doc. 06-796 Filed 1-31-06; 8:45 am]

BILLING CODE 6712-01-P